DEPARTMENT OF TRANSPORTATION

Surface Transportation Board

[Docket No. FD 35717]

Indiana Southern Railroad, LLC—Temporary Trackage Rights Exemption—Norfolk Southern Railway Company

Norfolk Southern Railway Company (NSR), pursuant to a written trackage rights agreement (Agreement), has agreed to grant temporary overhead trackage rights to Indiana Southern Railroad, LLC (ISRR) over NSR's line of railroad between Oakland City Junction, Ind., (milepost 0.8 EJ) and Enosville, Ind., (milepost 4.8 EJ), a distance of approximately 4.0 miles.¹

¹ A redacted version of the Agreement between NSR and ISRR was filed with the notice of exemption. ISRR simultaneously filed a motion for protective order to protect the confidential and commercially sensitive information contained in the unredacted version of the Agreement, which ISRR submitted under seal in this proceeding. That motion will be addressed in a separate decision.

The transaction may be consummated on or after March 22, 2013, the effective date of the exemption (30 days after the verified notice of exemption was filed). The temporary trackage rights are scheduled to expire on or about December 31, 2013. The purpose of the temporary trackage rights is to allow ISRR to bridge loaded and empty coal trains between a customer at Enosville and ISRR's tracks at Oakland City Junction, for further movement over ISRR's line to Petersburg, Ind.

As a condition to this exemption, any employees affected by the acquisition of the temporary trackage rights will be protected by the conditions imposed in Norfolk & Western Railway—Trackage Rights—Burlington Northern, Inc., 354 I.C.C. 605 (1978), as modified in Mendocino Coast Railway, Inc.—Lease & Operate—California Western Railroad, 360 I.C.C. 653 (1980), and any employees affected by the discontinuance of those trackage rights will be protected by the conditions set out in Oregon Short Line Railroad & The Union Pacific Railroad—Abandonment Portion Goshen Branch Between Firth & Ammon, in Bingham & Bonneville Counties, Idaho, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction. Petitions for stay must be filed no later than March 15, 2013 (at least 7 days before the exemption becomes effective). An original and 10 copies of all pleadings, referring to Docket No. FD 35717, must be filed with the Surface Transportation Board, 395 E Street SW., Washington, DC 20423-0001. In addition, a copy of each pleading must be served on Eric M. Hockey, One Commerce Square, 2005 Market Street, Suite 1000, Philadelphia, PA 19103.

Board decisions and notices are available on our Web site at www.stb.dot.gov.

Decided: March 5, 2013.
By the Board, Rachel D. Campbell, Director, Office of Proceedings.
Raina S. White,
Clearance Clerk.

[FR Doc. 2013-05446 Filed 3-7-13; 8:45 am]

BILLING CODE 4915-01-P